COMMITTEE FOR PURCHASE FROM PEOPLE WHO ARE BLIND OR SEVERELY DISABLED

Procurement List; Proposed Additions and Deletions

AGENCY: Committee for Purchase From People Who Are Blind or Severely Disabled.

ACTION: Proposed additions to and deletions from procurement list.

SUMMARY: The Committee is proposing to add to the Procurement List commodities and services to be furnished by nonprofit agencies employing persons who are blind or have other severe disabilities, and to delete commodities previously furnished by such agencies.

DATES: Comments must be received on or before May 21, 2001.

ADDRESSES: Committee for Purchase From People Who Are Blind or Severely Disabled, Jefferson Plaza 2, Suite 10800, 1421 Jefferson Davis Highway, Arlington, Virginia 22202-3259.

FOR FURTHER INFORMATION CONTACT: Patrick T. Mooney (703) 603-7740.

SUPPLEMENTARY INFORMATION: This notice is published pursuant to 41 U.S.C. 47(a)(2) and 41 CFR 51-2.3. Its purpose is to provide interested persons an opportunity to submit comments on the possible impact of the proposed actions.

Additions

If the Committee approves the proposed addition, all entities of the Federal Government (except as otherwise indicated) will be required to procure the commodities and services listed below from nonprofit agencies employing persons who are blind or have other severe disabilities.

I certify that the following action will not have a significant impact on a substantial number of small entities. The major factors considered for this certification were:

1. The action will not result in any additional reporting, recordkeeping or other compliance requirements for small entities other than the small organizations that will furnish the commodities and services to the Government.

2. The action will result in authorizing small entities to furnish the commodities and services to the Government.

3. There are no known regulatory alternatives which would accomplish the objectives of the Javits-Wagner-O'Day Act (41 U.S.C. 46-48c) in connection with the commodities and services proposed for addition to the Procurement List. Comments on this certification are invited.

Commenters should identify the statement(s) underlying the certification on which they are providing additional information. The following commodities and services have been proposed for addition to Procurement List for production by the nonprofit agencies listed:

Commodities

Belt, Military Police, Black Leather

8465-00-924-7943

8465-00-924-7944

8465-00-924-7945

8465-00-924-7946

8465-00-924-7947

8465-00-924-7948

8465-00-924-7949

NPA: Stone Belt ARC, Inc., Bloomington, Indiana

Services

Janitorial/Custodial

U.S. Air Force Recruiting Station

Wasilla, Alaska

NPA: Portland Habilitation Center, Inc., Portland, Oregon

Janitorial/Custodial

McConnell USARC

Liverpool, New York

NPA: Oswego Industries, Inc., Fulton, New York

Janitorial/Custodial

Seward USARC

Mattydale, New York

NPA: Oswego Industries, Inc., Fulton, New York

Janitorial/Custodial

Fort Ontario USARC

Oswego, New York

NPA: Oswego Industries, Inc., Fulton, New York

Recycling Service

Fort Dix, New Jersey

NPA: Occupational Training Center of Burlington County, Mt. Holly, New Jersey

Vehicle Operation and Maintenance

Travis Air Force Base, California

NPA: PRIDE Industries, Roseville, California

Deletions

I certify that the following action will not have a significant impact on a substantial number of small entities. The major factors considered for this certification were:

1. The action will not result in any additional reporting, recordkeeping or other compliance requirements for small entities.

2. The action will result in authorizing small entities to furnish the commodities to the Government.

3. There are no known regulatory alternatives which would accomplish the objectives of the Javits-Wagner-O'Day Act (41 U.S.C. 46-48c) in connection with the commodities proposed for deletion from the Procurement List.

The following commodities have been proposed for deletion from the Procurement List:

Commodities

Aerosol Paint, Lacquer

8010-00-721-9487

8010-00-290-6984

8010-00-965-2389

8010-00-721-9479

8010-00-582-5382

8010-00-584-3150

8010-00-721-9747

8010-00-721-9744

8010-00-721-9752

8010-00-721-9751

8010-00-290-6983

8010-00-584-3149

8010-00-584-3154

8010-00-721-9742

8010-00-141-2952

Louis R. Bartalot,
Director, Program Evaluation and Analysis.

[FR Doc. 01-9847 Filed 4-19-01; 8:45 am]

BILLING CODE 6353-01-P